DEPARTMENT OF VETERANS AFFAIRS

[OMB Control No. 2900-New (VA Form 1465-1)]

Proposed Information Collection Activity: Proposed Collection; Comment Request

AGENCY: Veterans Health Administration, Department of Veterans Affairs.

ACTION: Notice.

SUMMARY: The Veterans Health Administration (VHA) is announcing an opportunity for public comment on the proposed collection of certain information by the agency. Under the Paperwork Reduction Act (PRA) of 1995, Federal agencies are required to publish notice in the Federal Register concerning each proposed collection of information, including each proposed new collection, and allow 60 days for public comment in response to the notice. This notice solicits comments on information needed to identify problems or complaints in VA's health care services.

DATES: Written comments and recommendations on the proposed collection of information should be received on or before December 24, 2007.

ADDRESSES: Submit written comments on the collection of information through http://www.Regulations.gov; or to Mary Stout, Veterans Health Administration (193E1), Department of Veterans Affairs, 810 Vermont Avenue, NW., Washington, DC 20420 or e-mail: mary.stout@va.gov. Please refer to “OMB Control No. 2900-New (VA Form 1465-1)” in any correspondence. During the comment period, comments may be viewed online through the Federal Docket Management System (FDMS) at http://www.Regulations.gov.

FOR FURTHER INFORMATION CONTACT: Mary Stout (202) 461-5867 or FAX (202) 273-9381.

SUPPLEMENTARY INFORMATION: Under the PRA of 1995 (Public Law 104-13; 44 U.S.C. 3501-3521), Federal agencies must obtain approval from OMB for each collection of information they conduct or sponsor. This request for comment is being made pursuant to section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Nation-wide Customer Satisfaction Surveys, VA Forms 1465-1 through 1465-4.

OMB Control Number: 2900-New (VA Form 1465-1).

Type of Review: New collection.

Abstract: The purpose of the Survey of Health Experience of Patients (SHEP) Survey is to systematically obtain information from VA patients to identify problems or complaints that need attention and to improve the quality of health care services delivered to veterans. Data will be use to measure improvement toward the goal of matching or exceeding the non-VA external benchmark performance in providing quality health care services to veterans.

Affected Public: Individuals or households.

Estimated Annual Burden:

a. HCAHPS plus Inpatient Core-Long Form, VA Form 10-1465-1—2,500 hours.

b. HCAHPS plus Inpatient Core-Short Form, VA Form 10-1465-2—16,875 hours.

c. Outpatient Long Form, VA Form 10-1465-3—9,802 hours.

d. Outpatient Short Form, VA Form 10-1465-4—67,573 hours.

Estimated Average Burden Per Respondent:

a. HCAHPS plus Inpatient Core-Long Form, VA Form 10-1465-1—20 minutes.

b. HCAHPS plus Inpatient Core-Short Form, VA Form 10-1465-2—15 minutes.

c. Outpatient Long Form, VA Form 10-1465-3—25 minutes.

d. Outpatient Short Form, VA Form 10-1465-4—20 minutes.

Frequency of Response: On occasion.

Estimated Number of Respondents:

a. HCAHPS plus Inpatient Core-Long Form, VA Form 10-1465-1—7,500.

b. HCAHPS plus Inpatient Core-Short Form, VA Form 10-1465-2—67,500.

c. Outpatient Long Form, VA Form 10-1465-3—23,524.

d. Outpatient Short Form, VA Form 10-1465-4—202,720.

Dated: October 16, 2007.
By direction of the Secretary.
Denise McLamb,
Program Analyst, Records Management Service.

[FR Doc. E7-20924 Filed 10-23-07; 8:45 am]

BILLING CODE 8320-01-P